DEPARTMENT OF TRANSPORTATION

Federal Motor Carrier Safety Administration

[Docket No. FMCSA-2017-0028]

Qualification of Drivers; Exemption Applications; Vision

AGENCY: Federal Motor Carrier Safety Administration (FMCSA), DOT.

ACTION: Notice of applications for exemption; request for comments.

SUMMARY: FMCSA announces receipt of applications from 23 individuals for an exemption from the vision requirement in the Federal Motor Carrier Safety Regulations (FMCSRs) to operate a commercial motor vehicle (CMV) in interstate commerce. If granted, the exemptions will enable these individuals to operate CMVs in interstate commerce without meeting the vision requirement in one eye.

DATES: Comments must be received on or before March 16, 2018.

ADDRESSES: You may submit comments bearing the Federal Docket Management System (FDMS) Docket No. FMCSA-2017-0028 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., e.t., Monday through Friday, except Federal Holidays.

• Fax: 1-202-493-2251.

Instructions: Each submission must include the Agency name and the docket number(s) for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE, Washington, DC, between 9 a.m. and 5 p.m., e.t., Monday through Friday, except Federal holidays. The FDMS is available 24 hours each day, 365 days each year. If you want acknowledgment that we received your comments, please include a self-addressed, stamped envelope or postcard or print the acknowledgement page that appears after submitting comments online.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the FMCSRs for a five-year period if it finds “such exemption would likely achieve a level of safety that is equivalent to or greater than the level that would be achieved absent such exemption.” The statute also allows the Agency to renew exemptions at the end of the five-year period. FMCSA grants exemptions from the FMCSRs for a two-year period to align with the maximum duration of a driver's medical certification.

The 23 individuals listed in this notice have requested an exemption from the vision requirement in 49 CFR 391.41(b)(10). Accordingly, the Agency will evaluate the qualifications of each applicant to determine whether granting an exemption will achieve the required level of safety mandated by statute.

The physical qualification standard for drivers regarding vision found in 49 CFR 391.41(b)(10) states that a person is physically qualified to drive a CMV if that person has distant visual acuity of at least 20/40 (Snellen) in each eye without corrective lenses or visual acuity separately corrected to 20/40 (Snellen) or better with corrective lenses, distant binocular acuity of at least 20/40 (Snellen) in both eyes with or without corrective lenses, field of vision of at least 70° in the horizontal Meridian in each eye, and the ability to recognize the colors of traffic signals and devices showing standard red, green, and amber.

In July 1992, the Agency first published the criteria for the Vision Waiver Program, which listed the conditions and reporting standards that CMV drivers approved for participation would need to meet (Qualification of Drivers; Vision Waivers, 57 FR 31458, July 16, 1992). The current Vision Exemption Program was established in 1998, following the enactment of amendments to the statutes governing exemptions made by § 4007 of the Transportation Equity Act for the 21st Century (TEA-21), Public Law 105-178, 112 Stat. 107, 401 (June 9, 1998). Vision exemptions are considered under the procedures established in 49 CFR part 381 subpart C, on a case-by-case basis upon application by CMV drivers who do not meet the vision standards of 49 CFR 391.41(b)(10).

To qualify for an exemption from the vision requirement, FMCSA requires a person to present verifiable evidence that he/she has driven a commercial vehicle safely with the vision deficiency for the past three years. Recent driving performance is especially important in evaluating future safety, according to several research studies designed to correlate past and future driving performance. Results of these studies support the principle that the best predictor of future performance by a driver is his/her past record of crashes and traffic violations. Copies of the studies may be found at Docket Number FMCSA-1998-3637.

FMCSA believes it can properly apply the principle to monocular drivers, because data from the Federal Highway Administration's (FHWA) former waiver study program clearly demonstrated the driving performance of experienced monocular drivers in the program is better than that of all CMV drivers collectively (See 61 FR 13338, 13345, March 26, 1996). The fact that experienced monocular drivers demonstrated safe driving records in the waiver program supports a conclusion that other monocular drivers, meeting the same qualifying conditions as those required by the waiver program, are also likely to have adapted to their vision deficiency and will continue to operate safely.

The first major research correlating past and future performance was done in England by Greenwood and Yule in 1920. Subsequent studies, building on that model, concluded that crash rates for the same individual exposed to certain risks for two different time periods vary only slightly (See Bates and Neyman, University of California Publications in Statistics, April 1952). Other studies demonstrated theories of predicting crash proneness from crash history coupled with other factors. These factors—such as age, sex, geographic location, mileage driven and conviction history—are used every day by insurance companies and motor vehicle bureaus to predict the probability of an individual experiencing future crashes (See Weber, Donald C., “Accident Rate Potential: An Application of Multiple Regression Analysis of a Poisson Process,” Journal of American Statistical Association, June 1971). A 1964 California Driver Record Study prepared by the California Department of Motor Vehicles concluded that the best overall crash predictor for both concurrent and nonconcurrent events is the number of single convictions. This study used three consecutive years of data, comparing the experiences of drivers in the first two years with their experiences in the final year.

II. Qualifications of Applicants

Michael W. Belknap

Mr. Belknap, 52, has had amblyopia in his right eye since birth. The visual acuity in his right eye is 20/150, and in his left eye, 20/20. Following an examination in 2017, his optometrist stated, “Based upon my examination and with due regard for public safety, it is my decision that Mr. Belknap's eyesight is sufficient to perform the driving tasks required to operate a commercial vehicle.” Mr. Belknap reported that he has driven straight trucks for 35 years, accumulating 525,000 miles, and tractor-trailer combinations for 35 years, accumulating 262,500 miles. He holds a Class A CDL from Vermont. His driving record for the last three years shows no crashes and no convictions for moving violations in a CMV.

Scott M. Cavanaugh

Mr. Cavanaugh, 33, has had nystagmus in his left eye since birth. The visual acuity in his right eye is 20/20, and in his left eye, 20/70. Following an examination in 2017, his optometrist stated, “Therefore, it is my opinion that Scott has sufficient vision to perform the driving tasks required to operate a commercial motor vehicle.” Mr. Cavanaugh reported that he has driven straight trucks for 12 years, accumulating 108,000 miles. He holds an operator's license from Oklahoma. His driving record for the last three years shows no crashes and no convictions for moving violations in a CMV.

James M. Ferry

Mr. Ferry, 52, has a retinal detachment in his right eye due to a traumatic incident in 1991. The visual acuity in his right eye is 20/150, and in his left eye, 20/20. Following an examination in 2017, his optometrist stated, “In summary, it is my opinion that Mr. James Ferry meets the tasks required to operate a commercial vehicle.” Mr. Ferry reported that he has driven straight trucks for 33 years, accumulating 825,000 miles, and tractor-trailer combinations for 31 years, accumulating 2.17 million miles. He holds a Class A CDL from Ohio. His driving record for the last three years shows no crashes and no convictions for moving violations in a CMV.

Jacob A. Hehr

Mr. Hehr, 27, has had amblyopia in his left eye since childhood. The visual acuity in his right eye is 20/20, and in his left eye, count fingers. Following an examination in 2017, his ophthalmologist stated, “Vision is sufficient to operate a commercial vehicle per Sheridan Lam, MD.” Mr. Hehr reported that he has driven straight trucks for eight years, accumulating 108,000 miles, and tractor-trailer combinations for three years, accumulating 36,000 miles. He holds a Class AM CDL from Illinois. His driving record for the last three years shows no crashes and no convictions for moving violations in a CMV.

Mike B. Houston

Mr. Houston, 42, has a corneal scar in his right eye due to a traumatic incident in childhood. The visual acuity in his right eye is 20/400, and in his left eye, 20/20. Following an examination in 2017, his ophthalmologist stated, “Despite the fact Mr. Houston has a corneal scar in his right eye, in my medical opinion he has sufficient vision to perform the driving tasks required to operate a commercial vehicle.” Mr. Houston reported that he has driven straight trucks for ten years, accumulating 400,000 miles, and tractor-trailer combinations for ten years, accumulating 400,000 miles. He holds a Class A CDL from Oregon. His driving record for the last three years shows no crashes and no convictions for moving violations in a CMV.

Marvin R. Knecht

Mr. Knecht, 67, has had amblyopia in his left eye since childhood. The visual acuity in his right eye is 20/20, and in his left eye, 20/50. Following an examination in 2017, his optometrist stated, “Marvin has adequate vision to pass the commercial driving standards.” Mr. Knecht reported that he has driven straight trucks for 50 years, accumulating 525,000 miles, and tractor-trailer combinations for 45 years, accumulating 3.6 million miles. He holds a Class A CDL from North Dakota. His driving record for the last three years shows no crashes and one conviction for speeding in a CMV; he exceeded the speed limit by 20 mph.

Paul H. Knott

Mr. Knott, 51, has complete loss of vision in his left eye due to a traumatic incident in 1987. The visual acuity in his right eye is 20/20, and in his left eye, no light perception. Following an examination in 2017, his optometrist stated, “In my professional opinion, considering the longevity of his driving career, the longstanding, stable nature of his eye condition, and his ability to meet the requirements for CDL licensure, I also believe Mr. Scott is capable of safely and properly operating his vehicle(s).” Mr. Knott reported that he has driven straight trucks for 30 years, accumulating 900,000 miles. He holds an operator's license from North Dakota. His driving record for the last three years shows no crashes and no convictions for moving violations in a CMV.

Randolph W. Lewis

Mr. Lewis, 55, has had amblyopia in his left eye since birth. The visual acuity in his right eye is 20/15, and in his left eye, 20/60. Following an examination in 2017, his optometrist stated, “In my opinion these findings demonstrate that the patient has sufficient vision to perform the driving tasks required to operate a commercial vehicle.” Mr. Lewis reported that he has driven straight trucks for four years, accumulating 80,000 miles, and tractor-trailer combinations for 29 years, accumulating 1.45 million miles. He holds a Class A CDL from California. His driving record for the last three years shows no crashes and no convictions for moving violations in a CMV.

John M. Moore

Mr. Moore, 51, has complete loss of vision in his right eye due to melanoma. The visual acuity in his right eye is no light perception, and in his left eye, 20/20. Following an examination in 2017, his ophthalmologist stated, “He has sufficient vision to perform his driving task under a commercial vehicle.” Mr. Moore reported that he has driven straight trucks for 25 years, accumulating 500,000 miles, and tractor-trailer combinations for 25 years, accumulating 2 million miles. He holds an operator's license from Louisiana. His driving record for the last three years shows no crashes and no convictions for moving violations in a CMV.

Martin Munoz

Mr. Munoz, 45, has had amblyopia in his right eye since childhood. The visual acuity in his right eye is 20/50, and in his left eye, 20/20. Following an examination in 2017, his optometrist stated, “I certify that in my opinion, Mr. Munoz has sufficient vision to perform the driving tasks required to operate a commercial vehicle.” Mr. Munoz reported that he has driven straight trucks for seven years, accumulating 94,500 miles. He holds an operator's license from Texas. His driving record for the last three years shows no crashes and no convictions for moving violations in a CMV.

Edwin Quiles

Mr. Quiles, 58, has retinal scarring in his left eye due to a traumatic incident in 1977. The visual acuity in his right eye is 20/20, and in his left eye, 20/250. Following an examination in 2017, his optometrist stated, “It is my opinion that Mr. Quiles has adequate vision to operate a commercial vehicle.” Mr. Quiles reported that he has driven straight trucks for five years, accumulating 75,000 miles, and tractor-trailer combinations for 35 years, accumulating 2.9 million miles. He holds a Class A CDL from Florida. His driving record for the last three years shows no crashes and no convictions for moving violations in a CMV.

Vernon L. Reed

Mr. Reed, 61, has had a branch retinal vein occlusion in his left eye since 2014. The visual acuity in his right eye is 20/20, and in his left eye, 20/80. Following an examination in 2017, his ophthalmologist stated, “I believe that Vernon Reed has sufficient vision to perform the driving tasks required to operate a commercial vehicle.” Mr. Reed reported that he has driven straight trucks for 12 years, accumulating 192,000 miles, and tractor-trailer combinations for 36 years, accumulating 3.6 million miles. He holds a Class A CDL from Oregon. His driving record for the last three years shows no crashes and no convictions for moving violations in a CMV.

Joshua A. Rhynd

Mr. Rhynd, 27, has had amblyopia in his left eye since childhood. The visual acuity in his right eye is 20/20, and in his left eye, 20/70. Following an examination in 2017, his optometrist stated, “He does have sufficient vision to perform the commercial driving tasks required.” Mr. Rhynd reported that he has driven straight trucks for four years, accumulating 520,000 miles, and tractor-trailer combinations for five years, accumulating 1.12 million miles. He holds a Class A CDL from Maine. His driving record for the last three years shows no crashes and no convictions for moving violations in a CMV.

Douglass L. Riddell

Mr. Riddell, 62, has had amblyopia in his left eye since birth. The visual acuity in his right eye is 20/20, and in his left eye, 20/200. Following an examination in 2017, his optometrist stated, “This letter certifies that Douglas L. Riddell in my medical opinion has sufficient vision to perform the driving tasks required to safely operate a commercial vehicle.” Mr. Riddell reported that he has driven straight trucks for 30 years, accumulating 540,000 miles, and tractor-trailer combinations for 15 years, accumulating 120,000 miles. He holds a Class AM1 CDL from California. His driving record for the last three years shows no crashes and no convictions for moving violations in a CMV.

Michael C. Stevelman

Mr. Stevelman, 25, has had amblyopia in his right eye since childhood. The visual acuity in his right eye is 20/60, and in his left eye, 20/20. Following an examination in 2017, his optometrist stated, “In my medical opinion, the patient has sufficient vision to perform the driving tasks required to operate a commercial vehicle.” Mr. Stevelman reported that he has driven straight trucks for seven years, accumulating 105,000 miles. He holds an operator's license from New Jersey. His driving record for the last three years shows no crashes and no convictions for moving violations in a CMV.

Sedrick Straughter

Mr. Straughter, 45, has had amblyopia in his left eye since childhood. The visual acuity in his right eye is 20/20, and in his left eye, 20/60. Following an examination in 2017, his ophthalmologist stated, “This is to certify that, in my medical opinion, Mr. Straughter has sufficient vision to perform the driving tasks required to operate a commercial vehicle.” Mr. Straughter reported that he has driven tractor-trailer combinations for ten years, accumulating 1 million miles. He holds a Class A CDL from Illinois. His driving record for the last three years shows no crashes and no convictions for moving violations in a CMV.

Michael Talley

Mr. Talley, 51, has a chorioretinal scar in his right eye due to a traumatic incident in childhood. The visual acuity in his right eye is hand motion, and in his left eye, 20/20. Following an examination in 2017, his optometrist stated, “DR [SIC] LANKA HEREBY TESTIFIES THAT IN HIS MEDICAL OPINION, MR. TALLEY HAS THE SUFFICIENT VISION TO PERFORM THE DRIVING TASKS REQUIRED TO OPERATE A COMMERCIAL VEHICLE.” Mr. Talley reported that he has driven tractor-trailer combinations for 30 years, accumulating 2.1 million miles. He holds a Class A CDL from Oklahoma. His driving record for the last three years shows no crashes and no convictions for moving violations in a CMV.

Edward G. Thurston, III

Mr. Thurston, 53, has had a macular scar in his right eye since 2004. The visual acuity in his right eye is 20/100, and in his left eye, 20/20. Following an examination in 2017, his optometrist stated, “Eddie has sufficient vision for operating a commercial vehicle.” Mr. Thurston reported that he has driven tractor-trailer combinations for 18 years, accumulating 1.3 million miles. He holds a Class A CDL from Texas. His driving record for the last three years shows no crashes and no convictions for moving violations in a CMV.

Gerald A. Vaughn

Mr. Vaughn, 59, has had a retinal scar in his right eye since 2004. The visual acuity in his right eye is 20/60, and in his left eye, 20/20. Following an examination in 2017, his optometrist stated, “Gerald Vaughn has sufficient vision to perform the driving tasks required to operate a commercial vehicle.” Mr. Vaughn reported that he has driven straight trucks for ten years, accumulating 100,000 miles, and tractor-trailer combinations for 15 years, accumulating 2.25 million miles. He holds a Class A CDL from Ohio. His driving record for the last three years shows no crashes and no convictions for moving violations in a CMV.

John Henry R. Viljoen

Mr. Viljoen, 38, has a prosthetic left eye due to a traumatic incident in childhood. The visual acuity in his right eye is 20/20, and in his left eye, no light perception. Following an examination in 2017, his optometrist stated, “According the [sic] visual acuity and his peripheral vision and his color perception, it appears he has sufficient visual function to operate a commercial vehicle.” Mr. Viljoen reported that he has driven straight trucks for five years, accumulating 100,000 miles. He holds an operator's license from North Dakota. His driving record for the last three years shows no crashes and no convictions for moving violations in a CMV.

Kenneth E. Wheland

Mr. Wheland, 56, has had a retinal detachment in his left eye since 2014. The visual acuity in his right eye is 20/20, and in his left eye, 20/125. Following an examination in 2017, his optometrist stated, “In my opinion, Mr. Wheland retains vision sufficient to operate a commercial vehicle.” Mr. Wheland reported that he has driven straight trucks for 18 years, accumulating 5.4 million miles, tractor-trailer combinations for 22 years, accumulating 12.1 million miles, and buses for 18 years, accumulating 6.3 million miles. He holds a Class A CDL from Pennsylvania. His driving record for the last three years shows no crashes and no convictions for moving violations in a CMV.

Richard E. Wixom

Mr. Wixom, 56, has a retinal detachment in his right eye due to a traumatic incident in 2015. The visual acuity in his right eye is 20/50, and in his left eye, 20/20. Following an examination in 2017, his optometrist stated, “I certify that Richard has sufficient vision to perform the driving tasks required to operate a commercial vehicle.” Mr. Wixom reported that he has driven tractor-trailer combinations for 15 years, accumulating 2.25 million miles. He holds a Class CA CDL from Michigan. His driving record for the last three years shows no crashes and no convictions for moving violations in a CMV.

Mohammad J. Yousufzai

Mr. Yousufzai, 41, has had amblyopia in his left eye since childhood. The visual acuity in his right eye is 20/20, and in his left eye, 20/50. Following an examination in 2017, his optometrist stated, “In my medical opinion, Mr. Yousufzai has sufficient vision to perform the driving tasks required to operate a commercial vehicle.” Mr. Yousufzai reported that he has driven straight trucks for three years, accumulating 36,780 miles. He holds a Class A CDL from New Jersey. His driving record for the last three years shows no crashes and no convictions for moving violations in a CMV.

III. Request for Comments

In accordance with 49 U.S.C. 31136(e) and 31315, FMCSA requests public comment from all interested persons on the exemption petitions described in this notice. We will consider all comments and material received before the close of business on the closing date indicated in the dates section of the notice.

IV. Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2017-0028 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and materials received during the comment period. FMCSA may issue a final determination at any time after the close of the comment period.

V. Viewing Comments and Documents

To view comments, as well as any documents mentioned in this preamble, go to http://www.regulations.gov and in the search box insert the docket number FMCSA-2017-0028 and click “Search.” Next, click “Open Docket Folder” and you will find all documents and comments related to this notice.

Issued on: February 7, 2018.
Larry W. Minor,
Associate Administrator for Policy.

[FR Doc. 2018-03034 Filed 2-13-18; 8:45 am]

BILLING CODE 4910-EX-P